NATIONAL CREDIT UNION ADMINISTRATION

Sunshine Act: Notice of Agency Meeting

TIME AND DATE: 10:00 a.m., Thursday, October 19, 2017.

PLACE: Board Room, 7th Floor, Room 7047, 1775 Duke Street (All visitors must use Diagonal Road Entrance), Alexandria, VA 22314-3428.

STATUS: Open.

MATTERS TO BE CONSIDERED:

1. Share Insurance Fund Quarterly Report.

2. Request for Information, Electronic Loan, Deposit, and Investment Data Collection.

3. NCUA Rules and Regulations, Capital Planning and Supervisory Stress Testing.

4. NCUA Rules and Regulations, Appeals Procedures.

5. NCUA Rules and Regulations, Supervisory Review Committee.

RECESS: 11:30 a.m.

TIME AND DATE: 11:45 a.m., Thursday, October 19, 2017.

PLACE: Board Room, 7th Floor, Room 7047, 1775 Duke Street, Alexandria, VA 22314-3428.

STATUS: Closed.

MATTERS TO BE CONSIDERED:

1. Supervisory Action. Closed pursuant to Exemptions (8), (9)(i)(B), and (9)(ii).

FOR FURTHER INFORMATION CONTACT: Gerard Poliquin, Secretary of the Board, Telephone: 703-518-6304.

Gerard Poliquin,
Secretary of the Board.

[FR Doc. 2017-22506 Filed 10-12-17; 4:15 pm]

BILLING CODE 7535-01-P